ENVIRONMENTAL PROTECTION AGENCY

[EPA-HQ-OPPT-2014-0542; FRL-9915-80]

Certain New Chemicals; Receipt and Status Information

AGENCY: Environmental Protection Agency (EPA).

ACTION: Notice.

SUMMARY: EPA is required under the Toxic Substances Control Act (TSCA) to publish in the Federal Register a notice of receipt of a premanufacture notice (PMN); an application for a test marketing exemption (TME), both pending and/or expired; and a periodic status report on any new chemicals under EPA review and the receipt of notices of commencement (NOC) to manufacture those chemicals. This document covers the period from April 1, 2014 to June 30, 2014.

DATES: Comments identified by the specific PMN number or TME number, must be received on or before October 16, 2014.

ADDRESSES: Submit your comments, identified by docket identification (ID) number EPA-HQ-OPPT-2014-0542, and the specific PMN number or TME number for the chemical related to your comment, by one of the following methods:

• Federal eRulemaking Portal: http://www.regulations.gov. Follow the online instructions for submitting comments. Do not submit electronically any information you consider to be Confidential Business Information (CBI) or other information whose disclosure is restricted by statute.

• Mail: Document Control Office (7407M), Office of Pollution Prevention and Toxics (OPPT), Environmental Protection Agency, 1200 Pennsylvania Ave. NW., Washington, DC 20460-0001.

• Hand Delivery: To make special arrangements for hand delivery or delivery of boxed information, please follow the instructions at http://www.epa.gov/dockets/contacts.html.

Additional instructions on commenting or visiting the docket, along with more information about dockets generally, is available at http://www.epa.gov/dockets.

FOR FURTHER INFORMATION CONTACT: For technical information contact: Bernice Mudd, Information Division (7407M), Office of Pollution Prevention and Toxics, Environmental Protection Agency, 1200 Pennsylvania Ave. NW., Washington, DC 20460-0001; telephone number: (202) 564-8951; email address: mudd.bernice@epa.gov.

For general information contact: The TSCA-Hotline, ABVI-Goodwill, 422 South Clinton Ave., Rochester, NY 14620; telephone number: (202) 554-1404; email address: TSCA-Hotline@epa.gov.

SUPPLEMENTARY INFORMATION:

I. General Information

A. Does this action apply to me?

This action is directed to the public in general. As such, the Agency has not attempted to describe the specific entities that this action may apply to. Although others may be affected, this action applies directly to the submitter of the PMNs addressed in this action.

B. What should I consider as I prepare my comments for EPA?

1. Submitting CBI. Do not submit this information to EPA through regulations.gov or email. Clearly mark the part or all of the information that you claim to be CBI. For CBI information in a disk or CD-ROM that you mail to EPA, mark the outside of the disk or CD-ROM as CBI and then identify electronically within the disk or CD-ROM the specific information that is claimed as CBI. In addition to one complete version of the comment that includes information claimed as CBI, a copy of the comment that does not contain the information claimed as CBI must be submitted for inclusion in the public docket. Information so marked will not be disclosed except in accordance with procedures set forth in 40 CFR part 2.

2. Tips for preparing your comments. When submitting comments, remember to:

i. Identify the document by docket ID number and other identifying information (subject heading, Federal Register date and page number).

ii. Follow directions. The Agency may ask you to respond to specific questions or organize comments by referencing a Code of Federal Regulations (CFR) part or section number.

iii. Explain why you agree or disagree; suggest alternatives and substitute language for your requested changes.

iv. Describe any assumptions and provide any technical information and/or data that you used.

v. If you estimate potential costs or burdens, explain how you arrived at your estimate in sufficient detail to allow for it to be reproduced.

vi. Provide specific examples to illustrate your concerns and suggest alternatives.

vii. Explain your views as clearly as possible, avoiding the use of profanity or personal threats.

viii. Make sure to submit your comments by the comment period deadline identified.

II. What action is the Agency taking?

This document provides receipt and status reports, which cover the period from April 1, 2014 to June 30, 2014, and consists of the PMNs pending and/or expired, and the NOCs to manufacture a new chemical that the Agency has received under TSCA section 5 during this time period.

III. What is the Agency's authority for taking this action?

Section 5 of TSCA requires that EPA periodical publish in the Federal Register receipt and status reports, which cover the following EPA activities required by provisions of TSCA section 5.

EPA classifies a chemical substance as either an “existing” chemical or a “new” chemical. Any chemical substance that is not on EPA's TSCA Inventory is classified as a “new chemical,” while those that are on the TSCA Inventory are classified as an “existing chemical.” For more information about the TSCA Inventory go to: http://www.epa.gov/opptintr/newchems/pubs/inventory.htm. Anyone who plans to manufacture or import a new chemical substance for a non-exempt commercial purpose is required by TSCA section 5 to provide EPA with a PMN, before initiating the activity. Section 5(h)(1) of TSCA authorizes EPA to allow persons, upon application, to manufacture (includes import) or process a new chemical substance, or a chemical substance subject to a significant new use rule (SNUR) issued under TSCA section 5(a), for “test marketing” purposes, which is referred to as a test marketing exemption, or TME. For more information about the requirements applicable to a new chemical go to: http://www.epa.gov/oppt/newchems.

Under TSCA sections 5(d)(2) and 5(d)(3), EPA is required to publish in the Federal Register a notice of receipt of a PMN or an application for a TME and to publish in the Federal Register periodic status reports on the new chemicals under review and the receipt of NOCs to manufacture those chemicals.

IV. Receipt and Status Reports

In Table I. of this unit, EPA provides the following information (to the extent that such information is not claimed as CBI) on the PMNs received by EPA during this period: The EPA case number assigned to the PMN, the date the PMN was received by EPA, the projected end date for EPA's review of the PMN, the submitting manufacturer/importer, the potential uses identified by the manufacturer/importer in the PMN, and the chemical identity.

Table I—169 PMNs Received From 4/1/14 to 6/30/14
Case No. | Received date | Projected notice end date | Manufacturer /Importer | Use | Chemical
P-14-0465 | 4/1/2014 | 6/30/2014 | CBI | (G) Adhesive for open non-descriptive use | (G) Ultra-violet (UV)-curable urethane acrylate.
P-14-0466 | 4/1/2014 | 6/30/2014 | Henkel Corporation | (S) Polymerizable component in sealant formulations | (S) Benzene, 1,4-bis(1-chloro-1-methylethyl)-, reaction products with polyisobutylene, bis[4-[4-[(1-oxo-2-propen-1-yl)oxy]butoxy]phenyl]-terminated.
P-14-0468 | 4/2/2014 | 7/1/2014 | Bayer Materials Science | (G) Textile coating | (G) Aliphatic polyurethane resin.
P-14-0470 | 4/3/2014 | 7/2/2014 | CBI | (G) Polyester intermediate | (G) Dihydroxy dialkyl ether, polymer with cyclic carboxylic acid, hydroxy substituted alkane and carboxylic acid anhydride.
P-14-0471 | 4/3/2014 | 7/2/2014 | CBI | (S) Acrylic resin used in ultra violet curable inks and coatings | (G) Acrylate isocyanate polymer.
P-14-0472 | 4/3/2014 | 7/2/2014 | CBI | (G) Site controlled intermediate | (G) Polyphosphoric acids, 2-[alkyl-1-oxo-2-propen-1-yl)oxy]ethyl esters, compounds (compds.) with N-(aminoiminomethyl)urea.
P-14-0473 | 4/3/2014 | 7/2/2014 | CBI | (G) Coatings and printing application | (G) Fluorinated alkyl derivative.
P-14-0474 | 4/3/2014 | 7/2/2014 | Cray Valley USA, LLC | (S) Additive for improving caustic removability for rubber based adhesives. Additive for filler dispersion and/or property enhancement in thermoplastic and rubber compounds | (G) Maleated Resin, half-ester.
P-14-0475 | 4/3/2014 | 7/2/2014 | Cray Valley USA, LLC | (S) Additive for improving caustic removability for rubber based adhesives. Additive for filler dispersion and/or property enhancement in thermoplastic and rubber compounds | (G) Maleated Resin, half-ester.
P-14-0476 | 4/3/2014 | 7/2/2014 | CBI | (G) Isolated intermediate | (S) Tricyclo[3.3.1.13,7]decan-1-amine, N,N-dimethyl-.
P-14-0478 | 4/4/2014 | 7/3/2014 | CBI | (S) Thermoplastic polyurethanes | (S) Carbonic acid, dimethyl ester, polymer with 1,4-diisocyanatobenzene, 1,6-hexanediol and 1,5-pentanediol.
P-14-0479 | 4/4/2014 | 7/3/2014 | CBI | (S) Thermoplastic polyurethane for coatings mouldings | (S) C arbonic acid, dimethyl ester, polymer with 1,4-diisocyanatobenzene, 1,6-hexanediol, 1,5-pentanediol and 2,2′-[1,4-phenylenebis(oxy)]bis-[ethanol].
P-14-0480 | 4/7/2014 | 7/6/2014 | BASF Corporation | (G) Dispersant | (G) Carboxlic acid polymer with isocyanate, diols and acid, alc and amine blocked.
P-14-0481 | 4/7/2014 | 7/6/2014 | CBI | (G) Base material in industrial rubber synthesis | (G) Alkene, hexasubstituted, telomer with disubstituted alkene and polysubstituted alkane.
P-14-0482 | 4/7/2014 | 7/6/2014 | CBI | (G) Industrial Chemical | (G) Organic salt.
P-14-0483 | 4/9/2014 | 7/8/2014 | CBI | (G) Coating component | (G) Carbomonocyclic dicarboxylic acid, polymer with diisocyanatoalkane, alkyldiol, alkyldiol, alkanedioic acid, alkanediol, alkenoic acid and 1,3-isobenzofurandione, compound, with aminoalcohol.
P-14-0484 | 4/9/2014 | 7/8/2014 | CBI | (G) Tire-derived activated powdered carbon injected into coal-fired flues to act as a mercury sorbent | (S) Tires, wastes, pyrolyzed, carbon black fraction.
P-14-0485 | 4/10/2014 | 7/9/2014 | CBI | (G) Fuel cell component | (G) Rare earth oxide.
P-14-0487 | 4/11/2014 | 7/10/2014 | CBI | (G) Lubricating oil additive | (G) Polyalkylaminoalkaryloxy, carboxylic acid, metal salt.
P-14-0488 | 4/11/2014 | 7/10/2014 | HOBO INC | (S) A fertilizer micro nutrient additive for soil application, fertigation | (S) Ferrate (1-), [[[N(R),N′(R)]-n,n′-1,2-ethanediylbis[N-[[2-(hydroxy- ko)phenyl]methyl]glycinato-kn,ko]](4-)]-, sodium (1:1), (OC-6-13)-.
P-14-0490 | 4/14/2014 | 7/13/2014 | Cardolite Corporation | (S) Resin modifier for coating for epoxy A and B sides | (G) Cashew modified hydrocarbon.
P-14-0491 | 4/14/2014 | 7/13/2014 | Zeon Chemicals LP | (S) Silicon chip manufacture | (S) Single-walled carbon nanotube.
P-14-0492 | 4/16/2014 | 7/15/2014 | SOCMA | (G) Dye for washable ink systems | (G) Polyethoxylated monoazo.
P-14-0493 | 4/16/2014 | 7/15/2014 | SOCMA | (G) Dye for washable ink systems | (G) Polyethoxylated monoazo.
P-14-0495 | 4/16/2014 | 7/15/2014 | CBI | (S) Reactive hot melt adhesive | (G) Fluorinated polyester polyurethane prepolymer.
P-14-0496 | 4/17/2014 | 7/16/2014 | CBI | (G) Paper additive | (G) Polyphosphoric acids, 2-[(alkyl-1-oxo-2-propen-1-yl)oxy]ethyl esters, compounds. with N-(aminoiminomethyl)urea, polymers with BU acrylate, N- (hydroxymethyl)-2-propenamide and styrene.
P-14-0498 | 4/17/2014 | 7/16/2014 | Lambent Technologies | (G) Lubricant additive, friction reducer | (G) Molybdenum Ester/Amide.
P-14-0499 | 4/18/2014 | 7/17/2014 | CBI | (S) Polymer for architectural coatings | (G) Acrylic copolymer.
P-14-0500 | 4/18/2014 | 7/17/2014 | CBI | (S) Polyurethane catalyst | (G) Butanedioic acid, compound. with polyalkylpolyaminoamidine.
P-14-0501 | 4/21/2014 | 7/20/2014 | Ethox Chemicals, LLC | (S) Gellant for use in oil fracturing | (S) Phosphoric acid, mixed bu and decyl and octyl and 2-(2-phenoxyethoxy)ethyl and 2-phenoxyethyl esters.
P-14-0502 | 4/21/2014 | 7/20/2014 | Ethox Chemicals, LLC | (S) Gellant for use in oil fracturing | (S) phosphoric acid, mixed bu and decyl and octyl and 2-(2-phenoxyethoxy)ethyl and 2-phenoxyethyl esters, potassium salts.
P-14-0503 | 4/21/2014 | 7/20/2014 | Ethox Chemicals, LLC | (S) Gellant for use in oil fracturing | (S) phosphoric acid, mixed decyl and et and octyl and 2-(2-phenoxyethoxy)ethyl and 2-phenoxyethyl esters.
P-14-0504 | 4/21/2014 | 7/20/2014 | CBI | (G) Additive for textile finishing | (G) Alkylated urethane copolymer.
P-14-0505 | 4/22/2014 | 7/21/2014 | CBI | (S) For use in ultra violet/electron beams adhesives and coatings | (G) 2-propenoic acid,1,1â¿¿-[2-ethyl-2-[[(1-oxo-2-propen-1-yl)oxy]methyl]-1,3-propanediyl] ester, polymer with 1,1â¿¿-(1,2-ethanediyl) ester.
P-14-0507 | 4/23/2014 | 7/22/2014 | Colonial Chemical, Inc | (S) Fire Fighting foams | (S) Siloxanes and Silicones, di-Me, 3-hydroxypropyl Me, Me 2-(7-oxabicyclo [4.1.0] hept-3-yl)ethyl, ethers with polyethylene-polypropylene glycol mono-Me ether, reaction products with oligomeric D-glucopyranose C10-16-alkyl glycosides and oligomeric D-glucopyranose decyl octyl glycosides.
P-14-0508 | 4/23/2014 | 7/22/2014 | CBI | (G) Process aid for composite manufacturing | (G) Phosphoric acid, mixed alkyl alcohol esters, trialkanol ammonium salts.
P-14-0509 | 4/23/2014 | 7/22/2014 | CBI | (G) Coating | (G) Aromatic isocyanate, polymer with aromatic diamine, alkyloxirane, alkyloxirane polymer with oxirane ether with alkyltriol (3:1), and oxirane.
P-14-0510 | 4/23/2014 | 7/22/2014 | TFL USA Canada, Inc | (G) Industrial leather softener | (G) Sulfosuccinic acid ester, alkylamin derivs., sodium salt.
P-14-0511 | 4/25/2014 | 7/24/2014 | CBI | (G) 1. Blown-film grade, thermoplastic; 2. Injection molding thermoplastic | (G) Lignin, alkali, 2-hydroxypropylated.
P-14-0512 | 4/25/2014 | 7/24/2014 | CBI | (G) Chemical intermediate | (G) Aryl-substituted amide.
P-14-0513 | 4/25/2014 | 7/24/2014 | CBI | (G) Chemical intermediate | (G) Aromatic diglycidyl ether.
P-14-0514 | 4/28/2014 | 7/27/2014 | CBI | (S) Polymer for architectural coatings | (G) Acrylic copolymer.
P-14-0515 | 4/28/2014 | 7/27/2014 | CBI | (S) Polymer for architectural coatings | (G) Acrylic copolymer.
P-14-0516 | 4/28/2014 | 7/27/2014 | CBI | (S) Polymer for architectural coatings | (G) Acrylic copolymer.
P-14-0517 | 4/28/2014 | 7/27/2014 | CBI | (S) Aliphatic multifunctional urethane acyrlates for use in overprint varnishes | (G) Aliphatic multifunctional urethane acrylate.
P-14-0517 | 4/28/2014 | 7/27/2014 | CBI | (S) Aliphatic multifunctional urethane acrylate for use in wood stains, primers, and coatings | (G) Aliphatic multifunctional urethane acrylate.
P-14-0518 | 4/28/2014 | 7/27/2014 | Gelest | (S) Used in the preparation of a triethyleneoxy-terminated polymer (see submission GLS201) | (S) Cyclotetrasiloxane, 2,4,6,8-tetrakis[3-[2-(2-methoxyethoxy)ethoxy]propyl]-2,4,6,8-tetramethyl.
P-14-0519 | 4/28/2014 | 7/27/2014 | Gelest | (S) Used in the preparation of specialty silicone elastomers for various applications; research and development | (S) Siloxanes and silicones, di-me, hydrolysis products with dichloroethenylmethylsilane, 3-[2-(2- methoxyethoxy)ethoxy]propyl group-terminated.
P-14-0520 | 4/28/2014 | 7/27/2014 | CBI | (G) The material will be used as polymer modifier in various polymers | (G) Mixed ester.
P-14-0521 | 4/29/2014 | 7/28/2014 | CBI | (S) Reactant for spray coatings Reactant for cast elastomers | (G) Methylene diisocyanate prepolymer.
P-14-0522 | 4/29/2014 | 7/28/2014 | CBI | (S) Reactant for spray coatings Reactant for cast elastomers | (G) Polymeric methylene diisocyanate prepolymer.
P-14-0523 | 4/29/2014 | 7/28/2014 | CBI | (G) Additive for Textile Finishing | (G) Fluorinated Acrylic Copolymer.
P-14-0524 | 4/29/2014 | 7/28/2014 | CBI | (G) Additive for Textile Finishing | (G) Fluorinated Acrylic Copolymer.
P-14-0525 | 4/29/2014 | 7/28/2014 | CBI | (G) Additive for Textile Finishing | (G) Fluorinated Acrylic Copolymer.
P-14-0526 | 4/29/2014 | 7/28/2014 | CBI | (G) Additive for Textile Finishing | (G) Fluorinated Acrylic Copolymer.
P-14-0527 | 4/29/2014 | 7/28/2014 | CBI | (G) Additive for Textile Finishing | (G) Fluroinated Acrylic Copolymer.
P-14-0528 | 4/29/2014 | 7/28/2014 | CBI | (G) Component in electrocoat pigment paste | (G) Formic acid, compounds. with epoxy polymer branched alkylphenol ethers-bicycloguanidine reaction products.
P-14-0529 | 4/29/2014 | 7/28/2014 | CBI | (G) Component in electrocoat pigment paste | (G) Epoxy polymer, branched alkylphenol ethers, reaction products with bicyclic guanidine, acetates (salts).
P-14-0530 | 4/29/2014 | 7/28/2014 | CBI | (G) Component in electrocoat pigment paste | (G) Propanoic acid, compounds. with epoxy polymer branched alkylphenol ethers-bicycloguanidine reaction products.
P-14-0531 | 4/29/2014 | 7/28/2014 | CBI | (G) Component in electrocoat pigment paste | (G) Formic acid, compounds. with epoxy polymer-bicycloguanidine reaction products.
P-14-0532 | 4/29/2014 | 7/28/2014 | CBI | (G) Component in electrocoat pigment paste | (G) Epoxy polymer, reaction products with bicyclic guanidine, acetates (salts).
P-14-0533 | 4/29/2014 | 7/28/2014 | CBI | (G) Component in electrocoat pigment paste | (G) Propanoic acid, compds. with epoxy polymer-bicycloguanidine reaction products.
P-14-0534 | 4/29/2014 | 7/28/2014 | CBI | (S) Corrosion inhibitor for use in drilling applications | (G) Polyethylene glycol, tallow salt.
P-14-0536 | 4/30/2014 | 7/29/2014 | CBI | (S) Demulsification of crude oil | (G) Organomodified Siloxane.
P-14-0537 | 4/30/2014 | 7/29/2014 | CBI | (G) Open, non-dispersive use | (G) Polymeric aspartate.
P-14-0538 | 4/30/2014 | 7/29/2014 | CBI | (G) Additives for lubricating oil | (G) Methacrylic acid esters copolymer.
P-14-0539 | 5/1/2014 | 7/30/2014 | CBI | (G) Polyurethane resin coating agent | (G) Siloxanes and Silicones, di-Me, 3-(2-hydroxyethoxy)alkyl group-terminated, polymers with 1,4-alkanediol, di-Et carbonate, alkene glycol, 1,6-alkanediol and 1,1-alkylenebis[4-isocyanatocycloalkane].
P-14-0540 | 5/1/2014 | 7/30/2014 | CBI | (G) Polyurethane resin coating agent | (G) Siloxanes and Silicones, di-Me, 3-(2-hydroxyethoxy)alkyl group-terminated, polymers with 1,4-alkanediol, 1,4-cyclohexanedialcohol, 1,3-dioxolan-2-one, alkene glycol, 1,1â¿¿-methylenebis[4-isocyanatocyclohexane] and 2-alkyl-1,3-alkanediol.
P-14-0541 | 5/1/2014 | 7/30/2014 | CBI | (G) Chemical intermediate | (G) Aryl-substituted amide.
P-14-0542 | 5/5/2014 | 8/3/2014 | CBI | (G) Intermediate for coating resin manufacture | (G) Substituted alkanediol, polymer with heteromonocycles, substituted carbomonocycle alkenoate.
P-14-0543 | 5/5/2014 | 8/3/2014 | Allnex USA Inc | (G) Site limited intermediate for coating resin manufacture | (S) Benzoic acid, 2-([1,1′-biphenyl]-4-ylcarbonyl)-.
P-14-0544 | 5/1/2014 | 7/30/2014 | FUJIFILM Electronic Materials USA Inc | (G) Dishing reducer | (G) Potassium Amine complex.
P-14-0547 | 5/8/2014 | 8/6/2014 | CBI | (G) Destructive use | (G) Organometallic polymerization catalyst.
P-14-0549 | 5/9/2014 | 8/7/2014 | CBI | (G) Lubricant additive | (G) Sulfurized olefin, ester and oil.
P-14-0550 | 5/12/2014 | 8/10/2014 | CBI | (S) Plastic coating compounds | (S) Carbonic acid, dimethyl ester, polymer with 2-ethyl-2-(hydroxymethyl)-1,3-propanediol, 1,6-hexanediol, hydrazine 5-isocyanato-1-(isocyanatomethyl)-1,3,3-trimethylcyclohexane and 2-oxepanone, polyethylene glycol mono-me ether-blocked.
P-14-0551 | 5/12/2014 | 8/10/2014 | CBI | (S) Plastic coating compounds | (S) Hexanedioic acid, polymer with 1,4-cyclohexanedimethanol, dimethyl carbonate, 1,6-hexanediol, hydrazine, 3-hydroxy-2-(hydroxymethyl)-2-methylpropanoic acid, 5-isocyanato-1-(isocyanatomethyl)-1,3,3-trimethylcyclohexane, and 1,1′-methylenebis[4-isocyanatocyclohexane], compound with N,N-diethylethanamine.
P-14-0552 | 5/12/2014 | 8/10/2014 | CBI | (S) Textile coating compounds | (S) -Hydro—hydroxypoly(oxy-1,4-butanediyl) polymer with -hydro—hydroxypoly(oxy-1,2-ethanediyl) and 1,1′-methylenebis[4-isocyanatocyclohexane].
P-14-0553 | 5/12/2014 | 8/10/2014 | Gelest | (S) Preparation of mono functional-terminated polydimethylsiloxanes—at Gelest | (S) Siloxanes and Silicones, di-Me, BU group- and hydrogen-terminated.
P-14-0553 | 5/12/2014 | 8/10/2014 | Gelest | (S) Used in the preparation of a diethyleneoxy-terminated polymer (submission GLS204) at Gelest | (S) Siloxanes and Silicones, di-Me, BU group- and hydrogen-terminated.
P-14-0556 | 5/15/2014 | 8/13/2014 | Robertet, Inc | (S) As an odoriferous component of fragrance compounds | (S) Oils, peach pulp.
P-14-0557 | 5/16/2014 | 8/14/2014 | Allnex USA Inc | (S) Coating Resin for concrete or roofing sheets | (G) Polyalkylene glycol, polymer with substituted carbmonocycle, substituted alkylacrylate-blocked.
P-14-0558 | 5/14/2014 | 8/12/2014 | CBI | (G) Monomer | (G) Alkenyl alkyl carbamate.
P-14-0558 | 5/14/2014 | 8/12/2014 | CBI | (G) Monomer | (G) Alkenyl alkyl carbamate.
P-14-0559 | 5/16/2014 | 8/14/2014 | CBI | (G) Degreaser | (S) 1,6,10-Dodecatriene, 7,11-dimethyl-3-methylene-, (6E)-, hydrogenated.
P-14-0560 | 5/16/2014 | 8/14/2014 | Colonial Chemical, Inc | (S) Intermediate for production of polymers | (S) D-Glucopyranose, oligomeric, C10-16-alkyl glycosides, polymers with epichlorohydrin.
P-14-0561 | 5/16/2014 | 8/14/2014 | Colonial Chemical, Inc | (S) Intermediate to make polymers | (S) D-glucopyranose, oligomeric, decyl octyl glycosides, polymers with epichlorohydrin.
P-14-0562 | 5/19/2014 | 8/17/2014 | CBI | (G) Polyol | (G) Hydroxylated vegetable oil.
P-14-0563 | 5/19/2014 | 8/17/2014 | CBI | (G) Cleaner/degreaser | (G) Quaternary alkyl methyl amine ethoxylate methyl chloride.
P-14-0564 | 5/19/2014 | 8/17/2014 | Emerald Performance Materials Inc | (G) Alkylated cinnamic aldehyde is a chemical intermediate for the synthesis of fragrance compounds | (G) Alkylated cinnamic aldehyde.
P-14-0565 | 5/20/2014 | 8/18/2014 | CBI | (G) Contain use in energy production | (G) Tertiary amine salt.
P-14-0566 | 5/20/2014 | 8/18/2014 | CBI | (G) Material for highly dispersive use in consumer products | (G) Disubstituted alkenal.
P-14-0570 | 5/21/2014 | 8/19/2014 | Victrex USA, Inc | (S) Melt processing, e.g. Injection molding, compounding, and extrusion to produce finished articles | (S) Methanone, bis(4-fluorophenyl)-, polymer with bis(4-hydroxyphenyl)methanone.
P-14-0571 | 5/22/2014 | 8/20/2014 | CBI | (G) Light stabilizer | (G) Hydroxy tetra alkyl esters of trialkyl alkanoic acid with cycloaminoethanol.
P-14-0572 | 5/22/2014 | 8/20/2014 | CBI | (G) The new substance is intended for use as a binder for industrial UV coating applications | (G) Acrylic acid, hydroxyalkyl esters polymer with diisocyanatoalkane.
P-14-0573 | 5/23/2014 | 8/21/2014 | CBI | (G) Polymer component for automotive coatings | (G) Polymer of aliphatic diisocyanates, aromatic and aliphatic dicarboxylic acids, hydroxyalkyl acid, cycloaliphatic anhydride, aliphatic polyols, amino alcohol compd. with dialkyl alcohol amine salt.
P-14-0574 | 5/23/2014 | 8/21/2014 | CBI | (G) Open non-dispersive use; dispersive use | (G) Fatty acid esters with polyol.
P-14-0576 | 5/28/2014 | 8/26/2014 | Henkel Corporation | (S) Polymerizable component in silicone sealant formulations | (S) Siloxanes and silicones, di-me, hydroxy-terminated, polymers with dimethoxydimethylsilane, monohydroxyterminated di-me siloxanes and 3-(trimethhoxysilyl)propyl acrylate.
P-14-0577 | 5/28/2014 | 8/26/2014 | CBI | (G) Use in ultra violet electron beams adhesives and coatings | (G) Carbonic acid, polymer with, 5-isocyanato-1-(isocyanatomethyl)- 1,3,3-trimethylcyclohexane, 2-hydroxyethyl acrylate-blocked.
P-14-0578 | 5/28/2014 | 8/26/2014 | CBI | (S) Composite resin crosslinker | (S) Soybean oil, epoxidized, maleate methacrylates.
P-14-0579 | 5/29/2014 | 8/27/2014 | CBI | (G) Free Radical Initiator | (G) O-Iminoxy-Isourea.
P-14-0580 | 5/30/2014 | 8/28/2014 | CBI | (G) Coating additive | (G) Alkenoic acid, polymer with alkyl alkenoate, alkylalkylalkenoate, alkenoic acid and tridecenhalogenic alkylalkenoate, compds. with alkylamino alcanol.
P-14-0581 | 5/30/2014 | 8/28/2014 | CBI | (G) Chemical intermediate | (G) Alkyl alkyphosphinate.
P-14-0582 | 5/21/2014 | 8/19/2014 | Gelest | (S) Performance additive for silicone-based polymers | (S) Siloxanes and Silicones, di-Me, Bu group- and 3-(2-hydroxyethoxy)propyl group-terminated.
P-14-0583 | 5/30/2014 | 8/28/2014 | CBI | (G) Alternative environmentally-friendly base for industrial and commercial applications | (G) Hydrogen Trihydroxy Sulfate.
P-14-0584 | 6/2/2014 | 8/31/2014 | CBI | (G) Fragrance ingredient for consumer products. dispersive use | (S) Benzoic acid, 2-[[3-(1,3-benzodioxol-5-yl)-2-methyl-1-propen-1-yl]amino]-, methyl ester.
P-14-0585 | 6/2/2014 | 8/31/2014 | CBI | (G) Detection reagent | (G) Anthracene derivative.
P-14-0586 | 6/3/2014 | 9/1/2014 | CBI | (S) Alternative acidic solution for industrial and institutional applications | (G) Oxonium hydro sulfate.
P-14-0587 | 6/3/2014 | 9/1/2014 | CBI | (G) Acrylic resin | (G) Aminated acrylic polymer.
P-14-0589 | 6/4/2014 | 9/2/2014 | Kool Metal Recycling, LLC | (S) Reinforcement agent for rubber | (G) Carbon black.
P-14-0592 | 6/4/2014 | 9/2/2014 | CBI | (G) The new substance is intended for use as a binder for industrial coating applications | (G) Aromatic carboxylic acid polymer with aminoalkyl-alkyldiamine, cycloalkyldiamine, alkyldiol, alkyldioic acid, alkyl diol, dihydoxylalkylcarboxylic acid, cycloalkyl diisocyanate, cmpd. with dialkylamino alcohol.
P-14-0593 | 6/4/2014 | 9/2/2014 | CBI | (S) Fuel additive | (S) Tires, wastes, pyrolyzed, condensate oil fraction.
P-14-0594 | 6/5/2014 | 9/3/2014 | CBI | (S) Feed for a bromine recovery unit | (G) Brominated filtration residue.
P-14-0595 | 6/5/2014 | 9/3/2014 | CBI | (S) Dispersing agent for paints, coatings, and pigments | (G) Substituted isocyanate polymer.
P-14-0596 | 6/5/2014 | 9/3/2014 | CBI | (S) Dispersing agent for paints, coatings, and pigments | (G) Substituted isocyanate polymer.
P-14-0597 | 6/6/2014 | 9/4/2014 | CBI | (G) Catalyst in modified silicone and urethane polymer applications | (G) Diamine carboxylate salt.
P-14-0598 | 6/6/2014 | 9/4/2014 | LSR-Associates Ltd | (G) Contained use | (G) CHP.
P-14-0600 | 6/6/2014 | 9/4/2014 | CBI | (G) Corrosion inhibitor | (G) Tall oil polymd., polymer with aliphatic and alicyclic amines.
P-14-0601 | 6/6/2014 | 9/4/2014 | CBI | (G) Drilling fluid additive | (G) Amides, from diethylenetriamine, alkenoic acid and tall-oil fatty acids.
P-14-0602 | 6/6/2014 | 9/4/2014 | CBI | (G) Clay stabilizer | (G) Quaternary ammonium compounds, benzyl, methyl, bis-substituted, chloride.
P-14-0603 | 6/6/2014 | 9/4/2014 | Shepherd Chemical | (G) Proprietary degradation inhibitor additive in polymer-based insulation sheets | (S) Bismuth nitrate oxide
P-14-0604 | 6/6/2014 | 9/4/2014 | CBI | (G) Substituted siloxane coating component | (G) Substituted polysiloxane.
P-14-0605 | 6/6/2014 | 9/4/2014 | CBI | (G) Substituted siloxane coating component | (G) Substituted siloxane.
P-14-0606 | 6/9/2014 | 9/7/2014 | CBI | (S) Composite resin crosslinker | (S) Linseed oil, epoxidized, acrylates hydrogen maleates.
P-14-0607 | 6/9/2014 | 9/7/2014 | CBI | (S) Composite resin crosslinker | (S) Linseed oil, epoxidized, maleate methacrylate.
P-14-0608 | 6/6/2014 | 9/4/2014 | CBI | (G) Destructive use | (G) Alkoxy halide metal complexes.
P-14-0609 | 6/6/2014 | 9/4/2014 | CBI | (G) Polysiloxane coating | (G) Polysiloxane copolymer.
P-14-0611 | 6/9/2014 | 9/7/2014 | CBI | (G) Raw material for oil-field application | (G) Cyclic methacrylate alkyl styrene copolymer.
P-14-0612 | 6/11/2014 | 9/9/2014 | Allnex USA Inc. | (S) Industrial Coating Resin | (G) Substituted carbomonocyles-, polymer with substituted heteromonocycle, carboxyalkyl ethers, compounds, with substituted alkylamine.
P-14-0616 | 6/12/2014 | 9/10/2014 | CBI | (G) Open, non-dispersive use in hydrocarbon processing applications | (G) Fatty acid amine reaction product.
P-14-0617 | 6/12/2014 | 9/10/2014 | CBI | (G) Open, non-dispersive use in hydrocarbon processing applications | (G) Fatty acid amine reaction product.
P-14-0618 | 6/13/2014 | 9/11/2014 | Eastman Kodak company | (S) Export | (G) Substituted acrylamide.
P-14-0618 | 6/13/2014 | 9/11/2014 | Eastman Kodak Company | (S) Monomer used in manufacture of polymer | (G) Substituted acrylamide.
P-14-0621 | 6/16/2014 | 9/14/2014 | Reichhold INC. | (G) Binder resin for coatings | (G) Alkenedioic anhydride, polymer with alkanediol and branched alcoho.l
P-14-0623 | 6/16/2014 | 9/14/2014 | CBI | (G) Intermediate | (G) Aliphatic polyester.
P-14-0624 | 6/17/2014 | 9/15/2014 | CBI | (G) Cement additive | (G) Cyclic amine, polymer with haloalkyloxirane and .alpha.-hydro-.omega. -hydroxypoly(oxy-1,2-alkyldiyl), salt.
P-14-0625 | 6/17/2014 | 9/15/2014 | CBI | (S) Chemical intermediate | (G) Substituted alkylnitrile.
P-14-0627 | 6/19/2014 | 9/17/2014 | CBI | (S) Solvent in a variety of applications; laboratory chemical/solvent; cleaning agent | (G) Cyclic amide.
P-14-0628 | 6/20/2014 | 9/18/2014 | CBI | (G) Thickener | (G) Poly(oxy-1,2-ethanediyl), alfa-hydro-omega-hydroxy-, polymer with alkyl diisocyanate, fatty alcohol.
P-14-0629 | 6/20/2014 | 9/18/2014 | Blaser Swisslube Inc | (S) Lubricant for use in metalworking fluids | (S) Fatty acids, C18-unsaturated, dimers mixed esters with 2-octyldodecanol and polyethylene polypropylene glycol mono butyl ether.
P-14-0630 | 6/20/2014 | 9/18/2014 | CBI | (S) Pigment for polymer materials | (S) Bismuth bromide iodide oxide.
P-14-0630 | 6/20/2014 | 9/18/2014 | CBI | (S) Pigment for liquid coatings solvent based system | (S) Bismuth bromide iodide oxide.
P-14-0630 | 6/20/2014 | 9/18/2014 | CBI | (S) Pigment for powder coatings | (S) Bismuth bromide iodide oxide.
P-14-0631 | 6/20/2014 | 9/18/2014 | CBI | (S) P0191T will be used as an H2S scavenger. It will be used to “sweeten” natural gas during the refining process | (S) Formaldehyde, reaction products with ethylene glycol.
P-14-0632 | 6/23/2014 | 9/21/2014 | CBI | (G) Electrolyte for capacitors | (G) Alkyl amine borohalide salt.
P-14-0633 | 6/23/2014 | 9/21/2014 | CBI | (S) Wetting and anti-settling agent for use in paints and pigments | (G) Fatty acids, tall-oil, reaction products.
P-14-0634 | 6/23/2014 | 9/21/2014 | CBI | (G) Polyurethane coating | (G) Polyurethane coating.
P-14-0635 | 6/23/2014 | 9/21/2014 | CBI | (G) Polyurethane coating | (G) Polyurethane coating.
P-14-0636 | 6/24/2014 | 9/22/2014 | CBI | (S) Functional resin coating/protective coating; functional resin coating/protective coating; functional resin insulating glass sealant; functional resin aerospace sealant | (G) Chloroalkane, polymer with chloroalkoxyalkane and sodium sulfide (NA2SX).
P-14-0637 | 6/24/2014 | 9/22/2014 | CBI | (G) Textile treatment | (G) Perfluoroalkylethyl methacrylate copolymer.
P-14-0638 | 6/24/2014 | 9/22/2014 | CBI | (S) Solvent in a variety of applications; laboratory chemical/solvent; cleaning agent | (G) Cyclic amide.
P-14-0640 | 6/25/2014 | 9/23/2014 | CBI | (G) Destructive and contained use | (G) Cyclooctadiene metal derivatives.
P-14-0642 | 6/25/2014 | 9/23/2014 | CBI | (S) Low foam surfactant for the auto-dishwasher market; low foam surfactant for the household cleaning market | (S) Oxirane, 2-ethyl-, polymer with oxirane, mono-C12-16-alkyl ethers.
P-14-0643 | 6/24/2014 | 9/22/2014 | CBI | (G) Physical characteristic modifier for composite articles | (G) Titanium oxide compound.
P-14-0644 | 6/25/2014 | 9/23/2014 | CBI | (G) Ingredient in resin manufacturing | (G) Alkylacrylonitrile-acrylonitrile copolymer.
P-14-0645 | 6/25/2014 | 9/23/2014 | 3M Company | (G) Intermediate | (G) Polyoxyalkylene polyol polyurethane.
P-14-0646 | 6/25/2014 | 9/23/2014 | CBI | (G) Colorant | (S) Cuprate(4-), [[3,3′,3″,3′″-[(29h,31h-phthalocyanine-1,8,15,22-tetrayl—kappan29, kappan30, kappan31, kappan32) tetrakis(sulfonyl)]tetrakis[1-propanesulfonato]](6-)]-, sodium (1:4), (SP-4-1)-.
P-14-0647 | 6/25/2014 | 9/23/2014 | CBI | (G) Polymer used in electronics, adhesives and coatings manufacture | (G) Polymer of substituted aromatic olefins.
P-14-0648 | 6/26/2014 | 9/24/2014 | LSR-Associates Ltd | (G) Pigment dispersant | (G) Methacrylic acid-benzyl methacrylate-butyl methacrylate copolymer.
P-14-0649 | 6/26/2014 | 9/24/2014 | CBI | (S) Polyurethane catalyst for production of polyurethane foam | (G) Tetralkylammonium alkonate.
P-14-0650 | 6/26/2014 | 9/24/2014 | CBI | (G) Curing agent | (G) Alkylphenol polymer with bisphenol-A, epichlorohydrin, carboxylic acid, branched alkylamine and polyethylene glycol.
P-14-0651 | 6/26/2014 | 9/24/2014 | CBI | (G) Binder and reactant to manufacture foam | (G) Methylenediphenyl diisocyanate prepolymer.
P-14-0652 | 6/26/2014 | 9/24/2014 | CBI | (G) Intermediate | (G) Perfluoropolyether allyl ether.
P-14-0653 | 6/27/2014 | 9/25/2014 | Colonial Chemical, Inc | (S) Hard surface cleaner | (S) D-Glucopyranose, oligomeric, C10-16-alkyl glycosides, polymers with epichlorohydrin and oligomeric Dglucpyranose decyl octyl glycosides, 3-[bis(2-hydroxyethyl amino]-2-hydroxypropyl ethers, sodium 2-chloroacetate (1:1)-quaternized, inner salts.
P-14-0654 | 6/27/2014 | 9/25/2014 | Colonial Chemical, Inc | (S) Hard surface cleaner | (S) D-Glycopyranose, oligomeric, C10-16-alkyl glycosides, polymers with epichlorohydrin, 3-[bis(2-hydroxyethyl)amino] -2-hydroxypropyl ethers, sodium 2-chloroacetate (1:1)-quaternized, inner salts.
P-14-0655 | 6/30/2014 | 9/28/2014 | Nano-C, Inc | (S) Use in materials for mechanical or electrical properties; catalyst support in fuel cells, use as a nonoporous network, use in chemical separation, use in additive to improve material strength, coating additive for corrosion resistance, additive in lubricants and grease, additive for transparency and conductivity, additive for fibers in structural and electrical uses, additive for fibers in fabrics | (G) Single-walled carbon nanotubes.
P-14-0656 | 6/30/2014 | 9/28/2014 | Nano-C, Inc | (S) Use in materials for mechanical or electrical properties; catalyst support in fuel cells, use as a nonoporous network, use in chemical separation, use in additive to improve material strength, coating additive for corrosion resistance, additive in lubricants and grease, additive for transparency and conductivity, additive for fibers in structural and electrical uses, additive for fibers in fabrics | (G) Single-walled carbon nanotubes.
P-14-0657 | 6/30/2014 | 9/28/2014 | Nano-C, Inc | (S) Use as a(S) Use in materials for mechanical or electrical properties; catalyst support in fuel cells, use as a nonoporous network, use in chemical separation, use in additive to improve material strength, coating additive for corrosion resistance, additive in lubricants and grease, additive for transparency and conductivity, additive for fibers in structural and electrical uses, additive for fibers in fabrics semi-conductor, conductive, or resistive element in electronic circuitry and devices. Use as an electromechanical switch in electronic circuitry and devices. Additive for fibers in fabrics | (G) Single-walled carbon nanotubes.
P-14-0658 | 6/30/2014 | 9/28/2014 | Nano-C, Inc | (S) Use in materials for mechanical or electrical properties; catalyst support in fuel cells, use as a nonoporous network, use in chemical separation, use in additive to improve material strength, coating additive for corrosion resistance, additive in lubricants and grease, additive for transparency and conductivity, additive for fibers in structural and electrical uses, additive for fibers in fabrics | (G) Single-walled carbon nanotubes.
P-14-0659 | 6/30/2014 | 9/28/2014 | CBI | (G) Lubricant additive | (G) Ethanediamide, N1,N2-bis[3-(dialkylamino)propyl]-.

In Table II. of this unit, EPA provides the following information (to the extent that such information is not claimed as CBI) on the NOCs received by EPA during this period: The EPA case number assigned to the NOC, the date the NOC was received by EPA, the projected end date for EPA's review of the NOC, and chemical identity.

Table II—89 NOCs Received From 4/1/14 to 6/30/14
Case No. | Received date | Commencement notice end date | Chemical
P-12-0406 | 4/1/2014 | 3/20/2014 | (S) 1-butanesulfonamide, 1,1,2,2,3,3,4,4,4-nonafluoro-, monoammonium salt
P-13-0227 | 4/2/2014 | 3/27/2014 | (S) 2-butenoic acid, 1-ethyl-2-methylpropyl ester, (2E)-
P-13-0563 | 4/3/2014 | 3/28/2014 | (G) Polyalkylene glycol, alpha isocyanate, omega silane
P-12-0386 | 4/4/2014 | 3/17/2014 | (S) Hexanedioic acid, polymer with 1,6-hexanediol, 2-methyl-1,3-propanediol, 1,5-pentanediol and 1,2,3-propanetriol, dihydrogen 1,2,4-benzenetricarboxylate, compd. with 2-(dimethylamino)ethanol
P-13-0416 | 4/4/2014 | 3/17/2014 | (S) Polymer of: polycarbonate-polyester-polyol; 2,2-bis(hydroxymethyl)propionic acid; hexanedioic acid; 2-dimethylaminoethanol
P-14-0138 | 4/4/2014 | 4/1/2014 | (G) Polycarbonate-based polyurethane resin.
P-10-0510 | 4/8/2014 | 3/6/2014 | (S) Carboxylic acids, C5-9, polymers with glycerol and oxidized ozonized oleic acid and sorbitol.
P-14-0060 | 4/8/2014 | 4/2/2014 | (G) 1,1′-methylenebis[isocyanatobenzene], polymer with polycarboxylic acids in alkane polyols.
P-13-0223 | 4/9/2014 | 4/3/2014 | (S) 1-propanone, 1,1′-(methylenedi-4,1-phenylene)bis[2-hydroxy-2-methyl-
P-11-0660 | 4/10/2014 | 4/2/2014 | (S) 2-propenoic acid, polymer with 2-ethenypyridine and sodium ethenesulfonate (1:1), peroxydisulfuric acid ([(ho)s(o)2]2o2) sodium salt (1:2)-initiated, reaction products with sodium P,P′-ethenylidenebis[phosphonate] (4:1).
P-13-0519 | 4/14/2014 | 4/9/2014 | (G) Unsaturated fatty acids, dimers, di-me esters, hydrogenated, polymers with alkyl dioic acid, diisocyanatocycloalkane, hydroxy (hydroxymethyl) alkylcarboxylic acid, methylenebis[isocyanatocycloalkane], alkyl glycol and lactone compd. with trialkylamine.
P-14-0146 | 4/15/2014 | 3/19/2014 | (G) Mixed metal fluoride silicide.
P-14-0072 | 4/15/2014 | 3/26/2014 | (S) Propaneperoxoic acid, 2,2-dimethyl, 1,1,3,3-tetramethylbutyl ester.
P-14-0028 | 4/15/2014 | 4/14/2014 | (G) Substituted alkene, reaction products with substituted carbomonocycle.
P-14-0036 | 4/15/2014 | 4/14/2014 | (G) Substituted alkanoic acid ester, polymer with alkyl substituted alkanoate, substituted carbomonocycle, substituted alkanoates and heteromonocycle, substituted peroxoate-initiated.
P-14-0037 | 4/15/2014 | 4/14/2014 | (G) Substituted alkanoic acid ester, polymer with alkyl substituted alkanoate, substituted carbomonocycle, substituted alkanoates, heteromonocycle and alkanoic acid, substituted peroxoate-initiated, compounds with substituted alkanol.
P-13-0339 | 4/16/2014 | 3/16/2014 | (G) Organometallics, reaction products with silica, halogenated.
P-13-0350 | 4/16/2014 | 3/18/2014 | (G) Organometallic polymerization catalyst.
P-11-0555 | 4/17/2014 | 3/9/2014 | (G) 2-propenoic acid, 2-methyl-1,1-dimethylethyl ester, polymer with 2,2-dimethyl-1,3-propanediol, ethenylbenzene, 2-ethyl-2-(hydroxymethyl)-1,3-propanediol, cycloaliphatic dicarboxylic anhydride and 1,2-propanediol mono(2-methyl-2-propenoate), bis(1,1-dimethylpropyl)peroxide-initiated.
P-11-0556 | 4/17/2014 | 3/9/2014 | (G) 2-propenoic acid, 2-methyl-, polymer with 2,2-dimethyl-1,3-propanediol, ethenylbenzene, 2-ethyl-2-(hydroxymethyl)-1,3-propanediol, cycloaliphatic dicarboxylic anhydride, 2-hydroxyethyl 2-methyl-2-propenoate, methyl 2-methyl-2-propenoate and 2-methylpropyl 2-methyl-2-propenoate, 2-hydroxy-3-[(1-oxoneodecy]- oxy]propyl ester.
P-13-0470 | 4/17/2014 | 3/26/2014 | (G) Substituted phenoxy hexyl polymethacrylate.
P-14-0248 | 4/17/2014 | 4/17/2014 | (G) Modified essential oil.
P-13-0947 | 4/18/2014 | 4/1/2014 | (G) Hydroxy functional polyester.
P-14-0033 | 4/22/2014 | 3/24/2014 | (S) Siloxanes and Silicones, di-Me, ethoxy PH, polymers with PH silsesquioxanes, ethoxy- terminated.
P-14-0219 | 4/22/2014 | 4/8/2014 | (G) Polyurethane dispersion.
P-13-0724 | 4/24/2014 | 4/16/2014 | (G) Polyurethane prepolymer.
P-14-0044 | 4/24/2014 | 4/19/2014 | (G) Modified ketone resin, sodium salt.
P-13-0451 | 4/24/2014 | 4/23/2014 | (G) Carboxylic methacrylate polymer with akyl acrylate, alkyl methacrylate and alkyl methacrylate.
P-90-1530 | 4/25/2014 | 3/25/2014 | (G) Phosphinicocarboxylates, potassium salts.
P-14-0200 | 5/1/2014 | 4/29/2014 | (G) Isocyanate terminated polyurethane resin.
P-12-0550 | 5/2/2014 | 4/16/2014 | (S) Butanal, 4-(heptyloxy)-3-methyl-
P-14-0114 | 5/6/2014 | 5/5/2014 | (G) Waterborne acrylate-functional polyurethane.
P-13-0362 | 5/9/2014 | 4/22/2014 | (G) 1,3-benzenedicarboxylic acid, polymer with 1,4-dimethyl 1,4-benzenedicarboxylate, alkanediol, alkane acid, 1,2-ethanediol, hexanedioic acid, 1,6-hexanediol, alkyldiol ester, 1,3-isobenzofurandione, 1,1′-methylenebis[4-isocyanatobenzene], 2-methyloxirane, 2-oxepanone and 2,2′-oxybis[ethanol]
P-13-0304 | 5/9/2014 | 5/8/2014 | (S) Ethanol, 2,2′-oxybis-,1,1′-diformate
P-14-0241 | 5/12/2014 | 4/21/2014 | (G) Urethane acrylate
P-11-0534 | 5/12/2014 | 5/5/2014 | (G) Polyfluorinated alkyl thio polyacrylic acid-acrylamide
P-13-0446 | 5/13/2014 | 5/7/2014 | (S) Poly(oxy-1,2-ethanediyl), .alpha.,.alpha.′-[[(2-propylheptyl)imino]di-2,1-ethanediyl]bis[.omega.-hydroxy-
P-13-0835 | 5/13/2014 | 5/7/2014 | (G) Aliphatic polyester polyol.
P-13-0193 | 5/16/2014 | 4/16/2014 | (G) Amine adduct.
P-13-0556 | 5/16/2014 | 4/30/2014 | (S) 2-cyclopentene-1-acetic acid, ethyl ester.
P-14-0051 | 5/16/2014 | 5/10/2014 | (G) Fatty acids, C18-unsaturated, dimers, polymers with alkane acid, 1,6-hexanediol, 1,1'-methylenebis[4-isocyanatobenzene] and neopentyl glycol.
J-14-0004 | 5/19/2014 | 5/17/2014 | (S) As labeled in the MCAN, genetically modified yeast YD01345 commercial identifier YD11413.
P-14-0045 | 5/19/2014 | 5/17/2014 | (G) Substituted alkanediol, polymer with substituted heteromonocycle and heteromonocycle, alkenoate, reaction products with dialkylamine.
P-14-0264 | 5/19/2014 | 5/17/2014 | (S) D-glucopyranose oligomeric, decyl octyl glycosides, 3-(dimethyloctadecylammonio)-2-hydroxypropyl ethers, chlorides, polymers with 1,3-dichloro-2-propanol.
P-14-0236 | 5/20/2014 | 4/25/2014 | (G) Formaldehyde, polymer with substituted carbopolycycle and substituted carbopolycycle.
P-14-0245 | 5/20/2014 | 4/25/2014 | (G) Substituted pyrene, polymer with bis(alkoxyalkyl)carbomonocycle and substituted carbopolycycle.
P-06-0391 | 5/20/2014 | 4/30/2014 | (G) Alkyl methacrylate polymer with vinyl aromatic, branched alkyl acrylate, and alkyl methacrylate.
P-14-0040 | 5/22/2014 | 4/24/2014 | (S) Poly(oxy-1,2-ethanediyl),.alpha.-[(4-methylphenyl)sulfonyl]-.omega.-methoxy-
P-14-0071 | 5/22/2014 | 4/30/2014 | (S) Poly(oxy-1,2-ethanediyl), alpha-[2-(1,3-dihydro-1,3-dioxo-2h-isoindol-2-yl)ethyl]-omega-methoxy-
P-14-0041 | 5/22/2014 | 5/6/2014 | (S) Poly(oxy-1,2-ethanediyl),.alpha.-(2-aminoethyl)-.omega.-methoxy-
P-13-0359 | 5/22/2014 | 5/7/2014 | (G) 1,3-isobenzofurandione, polymer with alkanediol, 1,6-hexanediol, .alpha.-hydro-.omega.-hydroxypoly[oxy(methyL- 1,2-ethanediyl)], 1,1′-methylenebis[4-isocyanatobenzene] and poly(oxy-alkanediyl) glyceryl ether.
P-12-0061 | 5/29/2014 | 5/15/2014 | (G) Modified acrylic polymer.
P-14-0265 | 5/29/2014 | 5/18/2014 | (S) D-glucopyranose, oligomeric, C-10-16-alkyl glycosides, (3-dimethyloctadecylammonio)-2-hydroxylpropyl ethers, chlorides, polymers with 1,3-dichloro-2-propanol.
P-14-0240 | 6/2/2014 | 5/25/2014 | (S) Amines, bis(hydrogenated palm-oil alkyl)hydroxyl.
P-14-0129 | 6/2/2014 | 5/26/2014 | (S) Propanamide, 2-hydroxy-N,N-dimethyl-
P-14-0247 | 6/3/2014 | 6/1/2014 | (G) Amine salted polyurethane.
P-14-0381 | 6/4/2014 | 6/2/2014 | (G) 2,5-furandione, polymer with alkyl modified alkene, reaction products with ammonium hydroxide.
P-98-1069 | 6/5/2014 | 5/14/2014 | (G) Polycaprolactone polyols.
P-13-0444 | 6/5/2014 | 5/22/2014 | (G) 1,3-benzenedicarboxylic acid, polymer with butyl 2-methyl-2-propenoate, alkane acid, hexanedioic acid, 1,6-hexanediol, substituted poly[oxy(methyl-1,2-ethanediyl)], 2-hydroxyethyl 2-methyl-2-propenoate, 1,1′-methylenebis[4-isocyanatobenzene], methyl 2-methyl-2-propenoate, 2-methyl-2-propenoic acid and 2-oxepanone.
P-14-0196 | 6/5/2014 | 6/3/2014 | (G) Poly(oxy-1,2-ethanediyl), .alpha.-sulfo-.omega.-substituted carbomonocycle, ammonium salts.
P-98-1214 | 6/5/2014 | 6/5/2014 | (G) Epoxidized polyol.
P-14-0411 | 6/6/2014 | 5/18/2014 | (S) Fats and glyceridic oils, limnanthes alba seed.
P-13-0360 | 6/6/2014 | 5/31/2014 | (G) Alkane acid, polymer with alkanediol, 1,6-hexanediol, .alpha.-hydro-.omega.-hydroxypoly(oxy-1,4-butanediyl), 1,3- isobenzofurandione, 1,1′-methylenebis[4-isocyanatobenzene] and poly(oxy-alkanediyl) glyceryl ether.
P-14-0054 | 6/6/2014 | 6/5/2014 | (G) Amine-functional oligomer.
P-14-0216 | 6/11/2014 | 6/5/2014 | (G) Mixed alkyltin mercaptoester sulfides.
P-14-0218 | 6/11/2014 | 6/10/2014 | (G) Mixed alkyltin mercaptoester sulfides.
P-13-0559 | 6/12/2014 | 5/30/2014 | (G) Amine salt of vegetable oil, polymer with cycloaliphatic glycol, hydroxy substituted carboxylic acid, aliphatic diisocyanate and tetra hydroxy alkane.
P-14-0400 | 6/12/2014 | 6/6/2014 | (G) Substituted acid, electrophilic aromatic substitution products.
P-14-0217 | 6/12/2014 | 6/9/2014 | (G) Mixed alkyltin mercaptoester sulfides.
P-14-0234 | 6/13/2014 | 6/2/2014 | (G) Trisubstituted ethoxylated carbomonocycle.
P-14-0269 | 6/13/2014 | 6/9/2014 | (G) Peek-pedek copolymer.
P-13-0837 | 6/13/2014 | 6/10/2014 | (S) Fatty acids, C18-unsaturated, dimers, polymers with 2,2′-dithiobis[ethanol] and 1-piperazineethanamine.
P-14-0235 | 6/15/2014 | 6/6/2014 | (G) Styrene-maleic anhydride copolymer, reaction product with amino compounds.
P-13-0932 | 6/17/2014 | 6/3/2014 | (G) Polyester adduct.
P-14-0313 | 6/18/2014 | 6/3/2014 | (S) Ethanesulfonic acid, 2-[(2-aminoethyl)amino]-, sodium salt (1:1), polymer with 1,6-diisocyanatohexane, alphahydroomega-hydroxypoly(oxy-1,4-butanediyl) and 5-isocyanato-1-(isocyanatomethyl)-1,3,3-trimethylcyclohexane.
P-14-0404 | 6/18/2014 | 6/5/2014 | (S) Soybean oil, ester with polyethylene glycol ether with glycerol (3:1).
P-14-0403 | 6/18/2014 | 6/6/2014 | (S) Olive oil, ester with polyethylene glycol ether with glycerol (3:1).
P-14-0405 | 6/18/2014 | 6/6/2014 | (S) Oils, palm kernel, esters with polyethylene glycol ether with glycerol (3:1).
P-14-0401 | 6/18/2014 | 6/9/2014 | (S) Fats and glyceridic oils, avocado, esters with polyethylene glycol ether with glycerol (3:1).
P-14-0406 | 6/18/2014 | 6/10/2014 | (S) Oils, palm, esters with polyethylene glycol ether with glycerol (3:1).
P-14-0402 | 6/18/2014 | 6/11/2014 | (S) Coconut oil, ester with polyethylene glycol ether with glycerol (3:1).
P-14-0056 | 6/19/2014 | 5/19/2014 | (G) Amine-terminated epoxy resin.
P-14-0025 | 6/20/2014 | 5/16/2014 | (G) Polyethylene glycol-acrylic polymer salt.
P-14-0089 | 6/23/2014 | 6/17/2014 | (G) Fatty acid amide hydrochloride.
P-14-0090 | 6/23/2014 | 6/17/2014 | (G) Fatty acid amide hydrochloride.
P-14-0370 | 6/25/2014 | 6/16/2014 | (G) Acrylic esters and methacrylic esters epoxy resin.
P-13-0677 | 6/26/2014 | 6/5/2014 | (G) 1,3-dioxolan-2-one, polymer with 1,4-alkanediol, 1,2-alkanediol, 1,1′-alkylenebis[4-substitutedmonocarbocycle] and 2-alkyl-1,3-alkanediol.
P-12-0383 | 6/27/2014 | 6/10/2014 | (G) Alkanes.
P-11-0607 | 6/27/2014 | 6/25/2014 | (G) Polyaromatic organophosphorus compound.

If you are interested in information that is not included in these tables, you may contact EPA as described in Unit III. to access additional non-CBI information that may be available.

List of Subjects

Environmental protection, Chemicals, Hazardous substances, Imports, Notice of commencement, Premanufacturer, Reporting and recordkeeping requirements, Test marketing exemptions.

Dated: August 28, 2014.
Chandler Sirmons,
Acting Director, Information Management Division, Office of Pollution Prevention and Toxics.

[FR Doc. 2014-22037 Filed 9-15-14; 8:45 am]

BILLING CODE 6560-50-P